DEPARTMENT OF COMMERCE

National Oceanic and Atmospheric Administration

Draft Management Plan and Environmental Assessment for the Gerry E. Studds Stellwagen Bank National Marine Sanctuary: Notice of Public Availability and Meetings

AGENCY: Office of National Marine Sanctuaries (ONMS), National Ocean Service (NOS), National Oceanic and Atmospheric Administration (NOAA), Department of Commerce (DOC).

ACTION: Notice of public availability and meetings.

SUMMARY: In accordance with section 304(e) of the National Marine Sanctuaries Act, as amended, (NMSA) NOAA is soliciting public comment on the draft management plan and draft environmental assessment for the Gerry E. Studds Stellwagen Bank National Marine Sanctuary.

DATES: Comments: Comments on the draft management plan and draft environmental assessment will be considered if received on or before August 4, 2008.

Public meetings: See SUPPLEMENTARY INFORMATION section below for the dates and locations for the public meetings.

ADDRESSES: To obtain a copy: For a copy of the draft management plan and draft environmental assessment, contact the Management Plan Review Coordinator, Stellwagen Bank National Marine Sanctuary, 175 Edward Foster Rd., Scituate, MA 02066. Copies can also be downloaded from the SBNMS Web site at http://stellwagen.noaa.gov.

To submit comments: Comments on the draft management plan and draft environmental assessment may be submitted by one of the following methods:

1. In writing to the SBNMS Management Plan Review Coordinator (see to obtain a copy section above);

2. By e-mail to sbplan@noaa.gov; or

3. By providing comments (oral or written) at one of the public meetings (see public meetings section below).

Public meetings: See SUPPLEMENTARY INFORMATION section for the dates and locations for the public meetings.

FOR FURTHER INFORMATION CONTACT: Benjamin Cowie-Haskell at (781) 545-8026 or via e-mail at sbplan@noaa.gov.

SUPPLEMENTARY INFORMATION:

Background Information

Congress designated the Gerry E. Studds Stellwagen Bank National Marine Sanctuary (sanctuary or SBNMS) through the Oceans Act of 1992 (November 4, 1992; Public Law 102-587 at section 2202). In 1993, the National Oceanic and Atmospheric Administration (NOAA) issued final regulations and released a final management plan and environmental impact statement (EIS) to implement this designation (NOAA 1993). Section 304(e) of the NMSA requires NOAA to review its management plans for national marine sanctuaries every five years, and to evaluate the substantive progress toward implementing the management plans and goals for each sanctuary, especially the effectiveness of site-specific management techniques (16 U.S.C. 1434(e)).

In accordance with this requirement, NOAA initiated a review of the SBNMS management plan in 1998. This review was done in cooperation with members of the Sanctuary Advisory Council (SAC), a group formed of members of the public to provide advice to the sanctuary superintendent on the management and protection of sanctuary resources. The review was delayed two years due to a change in sanctuary management. NOAA restarted the review in June of 2002 with the publication of the “State of the Sanctuary Report,” which set the stage for the scoping meetings and public comment period that ended on October 18, 2002.

The review revealed that many of the initial goals and objectives of the original 1993 management plan had been met; however, in some areas these goals and objectives were non-specific and general in scope and/or based on limited scientific knowledge. New information about the natural and cultural resources of the sanctuary and the human uses of the resources made it apparent to NOAA that the plan was out-of date and outmoded. NOAA decided to incorporate this new knowledge by developing a new approach to managing the sanctuary, including an updated vision, mission, and statement of goals and objectives. In addition, NOAA revised the content and formatting requirements for all national marine sanctuary management plans. The ultimate purpose of this revised draft management plan is to update NOAA's approach to managing, protecting, and restoring the resources of the sanctuary pursuant to the purposes and policies of the NMSA. In April 2007, a report on the condition of sanctuary resources was released for public review and set the stage for this draft management plan.

Management Plan Contents

The SBNMS draft management plan serves as a non-regulatory policy framework for addressing the issues facing the sanctuary over the next five years. It lays the foundation for restoring and protecting the sanctuary's ecosystem; details the human pressures that threaten the qualities and resources of the sanctuary; and recommends actions that should be taken both now and in the future to better manage the area and resources.

This document provides strategic guidance for management actions and focuses these actions on four priority programmatic areas: capacity building, ecosystem protection, marine mammal protection and maritime heritage management. The eleven action plans detailed in the draft management plan address issues relative to these four areas, and are based extensively on the advice of working groups established by the SAC, cooperative coordination with other government agencies and organizations and ongoing public input.

The draft environmental assessment analyzes the environmental impacts of the revised management plan pursuant to the National Environmental Policy Act. In doing so, it analyzes two alternatives: the status quo (no change to the 1993 management plan) and the preferred alternative (revising the 1993 management plan).

Public Meetings

Public meetings will be held at the following locations and dates:

June 5 | Portland, ME | University of Southern Maine Law School, Talbot Lecture Hall, 88 Bedford Street.
June 9 | Wenham, MA | Gordon College, Lane Student Center, President's Dining Room, 255 Grapevine Road.
June 10 | Boston, MA | Boston University, School of Management, 4th Floor, Rooms 426 and 428, 595 Commonwealth Ave.
June 11 | Plymouth, MA | Hilton Garden Inn Plymouth, Plymouth Rooms 1 and 2, Four Home Depot Drive.
June 12 | Hyannis, MA | The Cape Codder Resort, JFK Ballroom, 1225 Iyanough Road, Route 132 & Bearse's Way.
June 16 | Portsmouth, NH | Sheraton Portsmouth Harborside Hotel, Harbor's Edge Room, 250 Market Street.
June 17 | North Dartmouth, MA | University of Massachusetts—Dartmouth, Woodland Common, 285 Old Westport Road.
June 19 | Mystic, CT | Mystic Aquarium, Main Exhibit Hall, 55 Coogan Boulevard.

Dated: April 21, 2008.
Daniel J. Basta,
Director, Office of National Marine Sanctuaries.

[FR Doc. E8-9977 Filed 5-5-08; 8:45 am]

BILLING CODE 3510-NK-P